DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent Application Serial No. 10/868,445 entitled “Cascade Avalanche Sorbent Plate Array (CASPAR)”, Navy Case No. 83,324 and Navy Case No. 95,877 entitled “Thermal Focusing of Collected Analyte on a Micro-Preconcentrator for Optimum Delivery to a Narrow Orifice” and any continuations, divisionals or re-issues thereof.

ADDRESSES: Requests for copies of the inventions cited should be directed to the Naval Research Laboratory, Code 1004, 4555 Overlook Avenue, SW., Washington, DC 20375-5320, and must include the Navy Case number.

FOR FURTHER INFORMATION CONTACT: Jane F. Kuhl, Head, Technology Transfer Office, NRL Code 1004, 4555 Overlook Avenue, SW., Washington, DC 20375-5320, telephone 202-767-3083. Due to temporary U.S. Postal Service delays, please fax 202-404-7920, E-Mail: kuhl@utopia.nrl.navy.mil or use courier delivery to expedite response.

(Authority: 35 U.S.C. 207, 37 CFR part 404.)

Dated: July 21, 2005.
I.C. Le Moyne Jr.,
Lieutenant, Judge Advocate General's Corps, U.S. Navy, Alternate Federal Register Liaison Officer.

[FR Doc. 05-14801 Filed 7-26-05; 8:45 am]

BILLING CODE 3810-FF-P